DEPARTMENT OF COMMERCE

International Trade Administration

[A-580-905]

4th Tier Cigarettes From the Republic of Korea: Postponement of Preliminary Determination in the Less-Than-Fair-Value Investigation

AGENCY: Enforcement and Compliance, International Trade Administration, Department of Commerce.

DATES: Applicable May 12, 2020.

FOR FURTHER INFORMATION CONTACT: Thomas Martin, AD/CVD Operations, Office IV, Enforcement and Compliance, International Trade Administration, U.S. Department of Commerce, 1401 Constitution Avenue NW, Washington, DC 20230; telephone: (202) 482-3936.

SUPPLEMENTARY INFORMATION:

Background

On January 7, 2020, the Department of Commerce (Commerce) initiated a less-than-fair-value (LTFV) investigation of imports of 4th Tier Cigarettes (cigarettes) from the Republic of Korea.¹ Currently, the preliminary determination is due no later than May 26, 2020.

¹ See 4th Tier Cigarettes from the Republic of Korea: Initiation of Less-Than-Fair-Value Investigation, 85 FR 2390 (January 15, 2020).

Postponement of Preliminary Determination

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On April 28, 2020, the petitioner ² submitted a timely request that Commerce postpone the preliminary determination in this LTFV investigation.³ The petitioner requests that Commerce fully extend the deadline for the preliminary determination to issue, if necessary, supplemental questionnaires and receive responses to those supplemental questionnaires, and “allow all parties ample time to fully and accurately analyze the information on this record prior to the preliminary determination and ensure an accurate preliminary calculation of dumping margins.” ⁴

² The petitioner is the Coalition Against Korean Cigarettes.

³ See Petitioner's Letter, “4th Tier Cigarettes from the Republic of Korea: Request to Postpone Preliminary Determination,” dated April 28, 2020.

⁴ Id. at 2.

For the reasons stated above and because there are no compelling reasons to deny the request, Commerce, in accordance with section 733(c)(1)(A) of the Act, is postponing the deadline for the preliminary determination by 50 days (i.e., 190 days after the date on which this investigation was initiated). As a result, Commerce will issue its preliminary determination no later than July 15, 2020. In accordance with section 735(a)(1) of the Act and 19 CFR 351.210(b)(1), the deadline for the final determination in this investigation will continue to be 75 days after the date of the preliminary determination, unless postponed.

Notification to Interested Parties

This notice is issued and published pursuant to section 733(c)(2) of the Act and 19 CFR 351.205(f)(1).

Dated: May 6, 2020.
Jeffrey I. Kessler,
Assistant Secretary for Enforcement and Compliance.

[FR Doc. 2020-10130 Filed 5-11-20; 8:45 am]

BILLING CODE 3510-DS-P